DEPARTMENT OF HEALTH AND HUMAN SERVICES

Centers for Medicare & Medicaid Services

[Document Identifier: CMS-10198 and CMS-10203]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: New Collection; Title of Information Collection: Creditable Coverage Disclosure To CMS Instructions contained in 42 CFR 423.56; Use: Section 1860D-13 of the Medicare Modernization Act requires certain entities that provide prescription drug coverage to Medicare Part D eligible individuals to disclose to CMS whether such coverage meets the actuarial requirements specified in the guidelines provided by CMS. The actuarial determination measures whether the expected amount of paid claims under the entity's prescription drug coverage is at least as much as the expected amount of paid claims under the standard Medicare prescription drug benefit. This information will be used for research, program evaluation and to verify whether or not beneficiaries are subject to a late enrollment penalty; Form Number: CMS-10198 (OMB#: 0938—New); Frequency: Recordkeeping, third party disclosure and reporting—On occasion and Annually; Affected Public: Business or other for-profit, not-for-profit institutions and Federal, State, local or tribal government; Number of Respondents: 446,160; Total Annual Responses: 450,660; Total Annual Hours: 37,555.

2. Type of Information Collection Request: New collection; Title of Information Collection: Medicare Health Outcome Survey (HOS) and supporting regulations at 42 CFR 422.152; Use: The Medicare Prescription Drug, Improvement, and Modernization Act of 2003 mandates the collection, analysis and reporting of health outcomes information. The collection of Medicare health outcomes information is necessary to hold Medicare managed care contractors accountable for the quality of care they are delivering. This reporting requirement allows CMS to obtain the information necessary for the proper oversight of the program. Form Number: CMS-10203 (OMB#: 0938—New); Frequency: Recordkeeping, reporting: Annually; Affected Public: Individuals or households, business or other for-profit and not-for-profit institutions; Number of Respondents: 320,040; Total Annual Responses: 320,040; Total Annual Hours: 105,613.

To obtain copies of the supporting statement and any related forms for the proposed paperwork collections referenced above, access CMS Web site address at http://www.cms.hhs.gov/PaperworkReductionActof1995, or e-mail your request, including your address, phone number, OMB number, and CMS document identifier, to Paperwork@cms.hhs.gov, or call the Reports Clearance Office on (410) 786-1326.

Written comments and recommendations for the proposed information collections must be mailed or faxed within 30 days of this notice directly to the OMB desk officer: OMB Human Resources and Housing Branch, Attention: Carolyn Lovett, New Executive Office Building, Room 10235, Washington, DC 20503. Fax Number: (202) 395-6974.

Dated: October 19, 2006.
Michelle Shortt,
Director, Regulations Development Group, Office of Strategic Operations and Regulatory Affairs.

[FR Doc. E6-17909 Filed 10-26-06; 8:45 am]

BILLING CODE 4120-01-P